DEPARTMENT OF TRANSPORTATION

Research and Special Programs Administration

[Docket No. RSPA-03-14793; Notice No. 03-10]

Revision of the Emergency Response Guidebook

AGENCY: Research and Special Programs Administration (RSPA), DOT.

ACTION: Notice of regulatory review; request for comments.

SUMMARY: This notice advises interested persons that the Research and Special Programs Administration (RSPA) is soliciting comments on the development of the Emergency Response Guidebook 2004 (ERG2004), particularly from those who have experience using the 2000 Emergency Response Guidebook (ERG2000) during hazardous materials incidents. The ERG2004 will supersede ERG2000. The development of ERG2004 is a joint effort involving the transportation agencies of the United States, Canada, and Mexico.

DATES: Comments must be received on or before September 30, 2003.

ADDRESSES: You may submit comments by any of the following methods:

• Web Site: http://dms.dot.gov . Follow the instructions for submitting comments on the DOT electronic docket site.

• Fax: 1-202-493-2251.

• Mail: Docket Management System; U.S. Department of Transportation, 400 Seventh Street, SW., Nassif Building, Room PL-401, Washington, DC 20590-001.

• Hand Delivery: To the Docket Management System; Room PL-401 on the plaza level of the Nassif Building, 400 Seventh Street, SW., Washington, DC, between 9 a.m. and 5 p.m., Monday through Friday, except Federal Holidays.

Instructions: You must include the agency name and docket number RSPA-03-14793 at the beginning of your comment. You should submit two copies of your comments, if you submit them by mail. If you wish to receive confirmation that we received your comments, you should include a self-addressed stamped postcard. Note that all comments received will be posted without change to http://dms.dot.gov including any personal information provided. Anyone is able to search the electronic form of all comments received into any of our dockets by the name of the individual submitting the comment (or signing the comment, if submitted on behalf of an association, business, labor union, etc.). You may review DOT's complete Privacy Act Statement in the Federal Register published on April 11, 2000 (65 FR 19477) or you may visit http://dms.dot.gov.

Docket: You may view the public docket through the Internet at http://dms.dot.gov or in person at the Docket Management System office at the above address.

FOR FURTHER INFORMATION CONTACT: Jerre Thomas, Research and Special Programs Administration (DHM-50), 400 Seventh Street SW., Washington, DC 20590-0001, phone number: (202) 366-4900. Internet e-mail to jerre.thomas@rspa.dot.gov.

SUPPLEMENTARY INFORMATION: The Federal hazardous materials transportation law (49 U.S.C. 5101 et seq.) empowers the Secretary of Transportation to issue and enforce regulations deemed necessary to ensure the safe transport of hazardous materials. In addition, the law directs the Secretary of Transportation to provide law enforcement and fire fighting personnel with technical information and advice for meeting emergencies connected with the transportation of hazardous materials.

I. Request for Comments

A. Background and Purpose

RSPA developed the Emergency Response Guidebook (ERG) for use by emergency services personnel to provide guidance for initial response to hazardous materials incidents. Since 1980, it has been our goal for all public emergency response vehicles, including fire fighting, police, and rescue squad vehicles, to carry a copy of the ERG. To accomplish this, we have published seven editions of the ERG and have distributed over seven million copies to emergency services agencies, without charge.

The ERG2004 is being jointly developed by RSPA, Transport Canada, and the Secretary of Communication and Transport of Mexico. ERG2004 will supersede ERG2000 and will be published in English, French, and Spanish for use by emergency response personnel. Publication of ERG2004 will facilitate the safe transport of hazardous materials through North America and increase public safety by providing consistent emergency response procedures for hazardous materials incidents in North America. In order to continually improve the ERG, RSPA actively solicits comments from interested parties, especially those who have experience using the ERG2000 during hazardous materials incidents.

B. Emergency Response Guidebook User Concerns

Comments are solicited on Emergency Response Guidebook user concerns and on the following questions:

(1) Have emergency responders experienced a problem of inconsistent guidance between ERG2000 and other sources of technical information? If so, in what way could ERG2004 be revised to reduce inconsistencies?

(2) Have emergency responders experienced confusion or difficulty in understanding the scope or purpose of ERG2000? If so, in what way could ERG2004 be revised to reduce this difficulty?

(3) Have emergency responders experienced confusion or difficulty in understanding the application of EGR2000? If so, in what way could ERG2004 be revised to reduce this difficulty?

(4) How could the “Table of Initial Isolation and Protective Action Distances” or its introduction be made easier to comprehend and use?

(5) In the “Table of Initial Isolation and Protective Action Distances,” does the distinction between day and night protective action distances add useful information for the first responder? How could the distinction be improved?

(6) Initial isolation and protective action distances were developed based on accident histories. Modeling for worst-case scenarios in the event of terrorism or sabotage indicates it may be appropriate to apply a factor of 1.5 or 2.0 to the values in the guidebook in those instances. What is the best way and format to alert the user to the need to consider increasing protective action distances when terrorism or sabotage is suspected? Should short, cautionary language to that effect be added to the guidebook?

(7) Could the “List of Dangerous Water-Reactive Material” introduced in NAERG96 be enhanced or improved?

(8) Have emergency responders experienced difficulty understanding the capabilities of chemical protective clothing, and the limitations of structural fire fighter's protective clothing in hazardous materials incidents? If so, in what way can ERG2004 be revised to improve understanding?

(9) Have any identification numbers (ID No.) been incorrectly assigned to a material (Name or Material)?

(10) Has any identification number/material been assigned to the “wrong” guide? If so, please identify the material and the guide.

(11) Are the responses on each guide appropriate for the material assigned to the guide?

(12) Have emergency responders experienced difficulty with legibility of ERG2000's print style, format, or durability?

(13) Have emergency response agencies experienced difficulty in obtaining copies of ERG2000 for their vehicles?

(14) Besides the Table of Placards, Rail Car Identification Chart, and Road Trailer Identification Chart, should other pictorial information be included?

(15) Are the Table of Placards, Rail Car Identification Chart, and Road Trailer Identification Chart accurate and useful?

(16) Are the terms listed in the Glossary defined satisfactorily?

(17) Should additional terms be added to the Glossary?

(18) How can this guidebook be enhanced to assist responders in responding to incidents of intentional release of chemical, radiological, nuclear, or biological agents?

Supporting data and analyses will enhance the value of comments submitted.

Issued in Washington, DC, on August 15, 2003 under authority delegated in 49 CFR part 106.
Robert A. McGuire,
Associate Administrator for Hazardous Materials Safety, Research and Special Programs Administration.

[FR Doc. 03-21328 Filed 8-19-03; 8:45 am]

BILLING CODE 4910-60-P